DEPARTMENT OF LABOR

Employment and Training Administration

[TA-W-65,060]

International Auto Components, LLC, (Formerly Lear Corporation), Sidney, OH; Notice of Termination of Investigation

Pursuant to Section 221 of the Trade Act of 1974, as amended, an investigation was initiated on February 2, 2009, in response to a petition filed by a company official on behalf of workers at International Auto Components, LLC (formerly Lear Corporation), Sidney, Ohio.

The petitioner has requested that the petition be withdrawn. Consequently, the investigation has been terminated.

Signed in Washington, DC, this 20th day of March 2009.
Elliott S. Kushner,
Certifying Officer, Division of Trade Adjustment Assistance.

[FR Doc. E9-7740 Filed 4-6-09; 8:45 am]

BILLING CODE 4510-FN-P